DEPARTMENT OF ENERGY

Federal Energy Regulatory Commission

[Project No. 14862-001]

Douglas Leen; Notice of Application Accepted for Filing, Intent To Waive Scoping, Soliciting Motions To Intervene and Protests, Ready for Environmental Analysis, and Soliciting Comments, Terms and Conditions, Recommendations, Prescriptions

Take notice that the following hydroelectric application has been filed with the Commission and is available for public inspection.

a. Type of Application: Exemption from Licensing.

b. Project No.: 14862-001.

c. Date filed: November 28, 2018.

d. Applicant: Douglas Leen.

e. Name of Project: Kupreanof Microhydro Project.

f. Location: On an unnamed stream, in Petersburg Borough, Alaska. The project would occupy 0.651 acre of federal land managed by the U.S. Forest Service.

g. Filed Pursuant to: Public Utilities Regulatory Policies Act of 1978, 16 U.S.C. 2705, 2708.

h. Applicant Contact: Douglas Leen, P.O. Box 341, Petersburg, Alaska 99833, (907) 518-0335; mail@dougleen.com.

i. FERC Contact: John Matkowski, (202) 502-8576, or john.matkowski@ferc.gov.

j. On September 26, 2019, the applicant informed the Commission of its intent to convert its application for minor license filed on November 28, 2018 to an application for exemption from licensing and included additional information necessary to augment the license application and convert it to an application for exemption from licensing. Pursuant to 18 CFR 4.31(c)(2) (2019), an applicant for an exemption is required to have sufficient rights in any non-federal land required for the project prior to filing its application. On October 8, 2019, the applicant provided documentation that it had the property rights for the non-federal lands necessary to develop the project.

k. Deadline for filing motions to intervene and protests, comments, terms and conditions, recommendations, and prescriptions: 60 days from the issuance date of this notice; reply comments are due 105 days from the issuance date of this notice.

The Commission strongly encourages electronic filing. Please file motions to intervene, protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14862-001.

The Commission's Rules of Practice require all intervenors filing documents with the Commission to serve a copy of that document on each person on the official service list for the project. Further, if an intervenor files comments or documents with the Commission relating to the merits of an issue that may affect the responsibilities of a particular resource agency, they must also serve a copy of the document on that resource agency.

l. This application has been accepted for filing and is now ready for environmental analysis.

m. Project Description: The proposed project would consist of: (1) Two surface water intakes: (a) A 3-foot-long, 1.5-foot-wide, 1.5-foot-deep steel intake box located in the east branch of the unnamed stream; and, (b) a 2.5-foot-long, 1-foot-wide, 1.25-foot-deep, steel intake box located in the west branch of the unnamed stream; (2) a 6-inch diameter, 458-foot-long, plastic penstock connecting the east branch intake to the powerhouse; (3) a 3-inch-diameter, 30-foot-long, plastic penstock connecting the west branch intake to the penstock leading from the east branch intake; (5) a powerhouse containing 1.5-kilowatt (kW) turbine/generator unit; (6) a tailrace that discharges into the mainstem unnamed stream; (7) a 420-foot-long, partially buried transmission line; and (8) appurtenant facilities. The project is estimated to generate an average of 550 megawatt-hours annually.

n. Due to the small size and location of this project, the applicant's close coordination with federal and state agencies during preparation of the application, and studies completed during pre-filing consultation, we intend to waive scoping and expedite the licensing process. Based on a review of the application and resource agency consultation letters including comments filed to date, Commission staff intends to prepare a single environmental assessment (EA). Commission staff determined that the issues that need to be addressed in its EA have been adequately identified during the pre-filing period, and no new issues are likely to be identified through additional scoping. The EA will consider assessing the potential effects of project operation on geology and soils, aquatic, terrestrial, threatened and endangered species, recreation, and cultural and historic resources.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may register online at http://www.ferc.gov/docs-filing/esubscription.asp to be notified via email of new filings and issuances related to this or other pending projects. For assistance, contact FERC Online Support.

p. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, NOTICE OF INTENT TO FILE COMPETING APPLICATION, COMPETING APPLICATION, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Dated: October 23, 2019.
Kimberly D. Bose,
Secretary.

[FR Doc. 2019-23588 Filed 10-28-19; 8:45 am]

BILLING CODE 6717-01-P